DEPARTMENT OF ENERGY

Amended Record of Decision for the Department of Energy's Final Programmatic Environmental Impact Statement for Accomplishing Expanded Civilian Nuclear Energy Research and Development and Isotope Production Missions in the United States, Including the Role of the Fast Flux Test Facility, DOE/EIS-0310

AGENCY: Department of Energy.

ACTION: Amended record of decision.

SUMMARY: The Department of Energy (DOE), pursuant to 10 CFR 1021.315, its implementing regulations under the National Environmental Policy Act (NEPA), is amending its Record of Decision (ROD) (66 FR 7877, January 26, 2001) for its Final Programmatic Environmental Impact Statement for Accomplishing Expanded Civilian Nuclear Energy Research and Development and Isotope Production Missions in the United States, Including the Role of the Fast Flux Test Facility (Nuclear Infrastructure (NI) PEIS). DOE had decided to transport neptunium-237 (Np-237), after conversion to neptunium oxide (NpO2), from DOE's Savannah River Site (SRS) to the Radiochemical Engineering Development Center (REDC) at the Oak Ridge National Laboratory (ORNL) for use in production of plutonium-238 in the future. Np-237 is categorized as special nuclear material (SNM). After the September 11, 2001, terrorist attack, storage of all SNM requires additional security and safeguards. Since REDC does not meet security requirements for storage of SNM, it would require costly security upgrades to qualify for safe storage of NpO2. DOE's Argonne National Laboratory-West (ANL-W) site, located in Idaho, meets the security requirements for storage of SNM, currently stores such materials, and has the storage space available for storage of NpO2.

DOE prepared a Supplement Analysis (SA) for the NI PEIS for the change of storage location of NpO2 from REDC to ANL-W (DOE/EIS-0310-SA-01) to determine whether further NEPA review is required. DOE has determined that no additional NEPA review is necessary because the relocation and change in storage location does not constitute a substantial change in the original proposed action, and the impacts analyzed in the NI PEIS bound the impacts of transfer to and storage at the new proposed storage location. Therefore, DOE has decided to change its decision on the storage location for NpO2 from REDC to ANL-W.

FOR FURTHER INFORMATION CONTACT: For further information on this project or to receive copies of the SA, initial ROD, or this Amended ROD contact: Dr. Rajendra Sharma, U.S. Department of Energy, Office of Nuclear Energy, Science and Technology, 19901 Germantown Road, Germantown, Maryland 20874, telephone (301) 903-2899, fax (301) 903-5005, e-mail: Rajendra.Sharma@nuclear.energy.gov. For general information on the DOE NEPA process, contact Ms. Carol M. Borgstrom, Director, Office of NEPA Policy and Compliance, EH-42/Forrestal Building, U.S. Department of Energy, 1000 Independence Avenue, SW., Washington, DC 20585-0119, telephone (202) 586-4600 or leave a message at (800) 472-2756.

SUPPLEMENTARY INFORMATION:

Background

The SRS has the remaining domestic inventory of recovered Np-237 which is no longer useable at that site because production of Pu-238 is no longer possible since the reactors have been shutdown. To support the future production of Pu-238 for the National Aeronautics and Space Administration (NASA) and national security missions, DOE must convert this material to neptunium oxide (NpO2), a stable form, that can be safely stored and used later to produce Pu-238. The NpO2 also needs to be relocated and stored at a site that meets the security requirements for storage of SNM (Np-237 is categorized as SNM) and is readily available for production of Pu-238. After analyzing various alternatives, DOE originally selected REDC, located at ORNL, for storage of NpO2. However, REDC no longer meets the security requirements for storage of SNM and would have to incur costly upgrades to comply with such requirements. ANL-W site in Idaho already stores SNM and meets the enhanced security requirements for storage of SNM.

The proposed plan calls for the shipment of approximately 70 drums containing small cans of NpO2 to ANL-W beginning in FY 2004 and ending in FY 2006. For shipment from SRS, one to three (depending on mass of neptunium, no more than 6 kg) crimp-sealed can(s) of NpO2 will be placed inside a 35-gallon shipping drum. The drums will be transported to ANL-W where the material will be stored until needed for Pu-238 production.

Basis for Decision

DOE has prepared a SA (DOE/EIS-0310-SA-01) in accordance with the Council on Environmental Quality (CEQ) and DOE regulations implementing NEPA. CEQ regulations at title 40, section 1502.9(c) of the Code of Federal Regulations (40 CFR 1502.9(c)) require Federal agencies to prepare a supplement to an EIS when an agency makes substantial changes in the proposed action that are relevant to environmental concerns or there are significant new circumstances or information relevant to environmental concerns and bearing on the proposed action or its impacts. DOE regulations at 10 CFR 1021.314(c) direct that when it is unclear whether a supplement to an EIS is required, an SA be prepared to determine whether an EIS should be supplemented; a new EIS should be prepared; or no further NEPA documentation is required. The SA analyzed whether this transportation and storage (change of NpO2 storage location from ORNL to ANL-W) is substantially relevant to environmental concerns and whether a supplement to the NI PEIS should be prepared. The environmental impacts of shipment of NpO2 from SRS were analyzed in the NI PEIS for several storage locations including FDPF and CPP-651 storage vault at the Idaho National Engineering and Environmental Laboratory (INEEL). The ANL-W site is in close proximity of FDPF and CPP-651. The transportation route and distance from SRS to ANL-W is virtually identical to FDPF/CPP-651. Because the impacts of shipment to and storage at FDPF/CPP-651 at INEEL were analyzed in the NI PEIS, the impacts for shipment to and storage at ANL-W are expected to be virtually the same. In addition, ANL-W currently stores SNM and meets the security requirements for storage of SNM. This change of storage location for NpO2 would obviate the need for costly security upgrades at ORNL.

Decision

On the basis of the SA and the analyses conducted in NI PEIS, DOE has determined that the proposed change in storage location of NpO2 from REDC to ANL-W would not require further review under NEPA. The impacts due to relocation and storage of NpO2 would be no greater than those assessed in the NI PEIS.

DOE is issuing this amendment to the original ROD to announce the change of storage location for NpO2 from REDC to ANL-W.

Issued in Washington, DC, August 5, 2004.
William D. Magwood, IV,
Director, Office of Nuclear Energy, Science and Technology.

[FR Doc. 04-18534 Filed 8-12-04; 8:45 am]

BILLING CODE 6450-01-P